DEPARTMENT OF VETERANS AFFAIRS

[OMB Control No. 2900-NEW]

Agency Information Collection Activity Under OMB Review: Department of Veterans Affairs (VA) Post-Separation Transition Assistance Program (PSTAP) Assessment Survey

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before May 30, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-NEW” in any correspondence.

FOR FURTHER INFORMATION CONTACT: Cynthia D. Harvey-Pryor, Enterprise Records Service (005R1B), Department of Veterans Affairs, 810 Vermont Avenue NW, Washington, DC 20420, (202) 461-5870 or email cynthia.harvey-pryor@va.gov. Please refer to “OMB Control No. 2900-NEW” in any correspondence.

SUPPLEMENTARY INFORMATION:

Authority: Public Law 112-56, § 221-225, 125 Stat. 715-718.

Title: Department of Veterans Affairs (VA) Post-Separation Transition Assistance Program (PSTAP) Assessment Survey.

OMB Control Number: 2900-NEW.

Type of Review: New Collection.

Abstract: The PSTAP Assessment Survey will be used by VA to assess how the TAP training for Transitioning Servicemembers (TSMs) prepares Veterans for civilian life. This new information collection request (ICR) will be conducted once per year and is designed as a longitudinal survey. In the first year of data collection, the survey will be fielded to all Veterans who meet the criteria at the time of fielding of having separated from the military at six months, one year, and three years prior to the date that surveys (first mailing will solicit electronic responses) will be mailed. Civilian life readiness will measure domains of a TSM's life including employment, entrepreneurship, mental/physical health, social relationships, financial situation, and housing. In addition, the survey will assess if TSMs understand and utilize their available VA benefits, and which TAP curriculum modules (tracks) are the most and least useful. An agency may not conduct or sponsor, and a person is not required to respond to a collection of information unless it displays a currently valid OMB control number. The Federal Register Notice with a 60-day comment period soliciting comments on this collection of information was published at 83 FR 34 on February 20, 2018, page 7300.

Affected Public: Individuals.

Estimated Annual Burden: 4,210.

Estimated Average Burden per Respondent: 18.5 minutes.

Frequency of Response: Annual.

Esimated Number of Respondents: 13,655.

By direction of the Secretary.
Cynthia D. Harvey-Pryor,
Department Clearance Officer, Office of Quality, Privacy and Risk, Department of Veterans Affairs.

[FR Doc. 2018-09055 Filed 4-27-18; 8:45 am]

BILLING CODE 8320-01-P